DEPARTMENT OF COMMERCE

Submission for OMB Review; Comment Request

The Department of Commerce will submit to the Office of Management and Budget (OMB) for clearance the following proposal for collection of information under the provisions of the Paperwork Reduction Act (44 U.S.C. chapter 35).

Agency: National Institute of Standards and Technology (NIST).

Title: NIST Summer Institute for Middle School Science Teachers (NIST Summer Institute) and the NIST Research Experience for Teachers (NIST RET) Applicant Requirements.

OMB Control Number: 0693-0059.

Form Number(s): NIST-1103.

Type of Request: Regular submission (revision/extension of a currently approved information collection).

Burden Hours: 100.

Number of Respondents: 100.

Average Hours per Response: 1.

Needs and Uses: The NIST Summer Institute and the NIST RET are two competitive financial assistance (cooperative agreement) programs that offer middle school (Grades 6-8) science teachers an opportunity to participate in hands-on activities, lectures, tours, visits, or in scientific research with scientists and engineers in NIST laboratories. The aim is to encourage them to inspire students to pursue careers in science, technology, engineering, and mathematics (STEM) fields.

This request is for the information collection for form (NIST-1103) that must be completed by nominated teachers. The request for Additional Applicant Information Requirement is no longer needed for this collection and has been removed. Information is used in making cooperative agreement decisions.

Affected Public: U.S. public school districts, U.S. accredited private educational institutions, and U.S. middle school (Grades 6-8) science teachers.

Frequency: Annually.

Respondent's Obligation: Required to obtain benefits.

OMB Desk Officer: Jasmeet Seehra, (202) 395-3123.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Jasmeet Seehra, OMB Desk Officer, FAX number (202) 395-5167 or via the Internet at Jasmeet_K._Seehra@omb.eop.gov.

Dated: August 5, 2011.
Gwellnar Banks,
Management Analyst, Office of the Chief Information Officer.

[FR Doc. 2011-20289 Filed 8-9-11; 8:45 am]

BILLING CODE 3510-13-P